NUCLEAR REGULATORY COMMISSION

Regulatory Guide; Issuance, Availability

The Nuclear Regulatory Commission has issued a revision to a guide in its Regulatory Guide Series. This series has been developed to describe and make available to the public such information as methods acceptable to the NRC staff for implementing specific parts of the Commission's regulations, techniques used by the staff in evaluating specific problems or postulated accidents, and data needed by the staff in its review of applications for permits and licenses.

Revision 3 of Regulatory Guide 1.8, “Qualification and Training of Personnel for Nuclear Power Plants,” provides current guidance on qualifications and training for nuclear power plant personnel that is acceptable to the NRC staff. This regulatory guide endorses ANSI/ANS-3.1-1993, “Selection, Qualification, and Training of Personnel for Nuclear Power Plants,” with certain clarifications, additions, and exceptions.

Comments and suggestions in connection with items for inclusion in guides currently being developed or improvements in all published guides are encouraged at any time. Written comments may be submitted to the Rules and Directives Branch, Office of Administration, U.S. Nuclear Regulatory Commission, Washington, DC 20555.

Recently published regulatory guides are available on the NRC's web site at <WWW.NRC.GOV> in the Reference Library under Regulatory Guides. Regulatory guides are also available for inspection at the Commission's Public Document Room, 2120 L Street NW., Washington, DC. Single copies of regulatory guides may be obtained free of charge by writing the Reproduction and Distribution Services Section, OCIO, U.S. Nuclear Regulatory Commission, Washington, DC 20555-0001, or by fax to (301) 415-2289. Issued guides may also be purchased may also be purchased from the National Technical Information Service on a standing order basis. Details on this service may be obtained by writing NTIS, 5285 Port Royal Road, Springfield, VA 22161. Regulatory guides are not copyrighted, and Commission approval is not required to reproduce them.

(5 U.S.C. 552(a))
Dated at Rockville, Maryland, this 3rd day of May 2000.
For the Nuclear Regulatory Commission.
Ashok C. Thadani,
Director, Office of Nuclear Regulatory Research.

[FR Doc. 00-12615 Filed 5-18-00; 8:45 am]

BILLING CODE 7590-01-P